ADMINISTRATIVE CONFERENCE OF THE UNITED STATES

Notice of Public Meeting of the Assembly of the Administrative Conference of the United States

AGENCY: Administrative Conference of the United States.

ACTION: Notice.

SUMMARY: Pursuant to 5 U.S.C. 595, the Assembly of the Administrative Conference of the United States will meet during a two-day virtual plenary session to consider proposed recommendations, a proposed official statement, and to conduct other business. Written comments may be submitted in advance, and the meeting will be accessible to the public.

DATES: The two-day meeting will take place on Wednesday, December 16, 2020, from 10 a.m.-5 p.m.; and Thursday, December 17, 2020, from 10 a.m.-4 p.m. The meeting may adjourn early if all business is finished.

ADDRESSES: Due to Centers for Disease Control and Prevention COVID-19 health guidelines, the meeting will be conducted virtually. Information on how to access the meeting will be available on the agency's website prior to the meeting at https://www.acus.gov/meetings-and-events/plenary-meeting/73rd-plenary-session.

FOR FURTHER INFORMATION CONTACT: Shawne McGibbon, General Counsel (Designated Federal Officer), Administrative Conference of the United States, Suite 706 South, 1120 20th Street NW, Washington, DC 20036; Telephone 202-480-2088; email smcgibbon@acus.gov.

SUPPLEMENTARY INFORMATION: The Administrative Conference of the United States makes recommendations to federal agencies, the President, Congress, and the Judicial Conference of the United States regarding the improvement of administrative procedures (5 U.S.C. 594). The membership of the Conference, when meeting in plenary session, constitutes the Assembly of the Conference (5 U.S.C. 595).

Agenda: The Assembly will receive updates on past, current, and pending Conference initiatives. In addition, pending final action by the Conference's subcommittees and the Council, six proposed recommendations and one proposed official statement are tentatively scheduled for consideration. Summaries of the recommendations and statement appear below:

Agency Appellate Systems. This proposed recommendation addresses agencies' appellate review of hearing-level adjudicative decisions. It offers best practices with respect to an agency's identification of the purpose or objective served by its appellate review; its selection of cases for appellate review, when review is not required by statute; its procedures for review; its appellate decision-making processes; its management, administration, and bureaucratic oversight of its appellate systems; and its public disclosure of information about its appellate system.

Agency Litigation web pages. This proposed recommendation offers best practices and factors for agencies to consider in deciding whether and how to make litigation filings and relevant court opinions publicly available on their websites. It identifies costs and benefits agencies should weigh when considering whether to post such materials on their websites and suggests steps agencies can take to maximize their accessibility.

Agency Use of Artificial Intelligence. This proposed official statement identifies important issues agencies should consider as they develop and use artificial intelligence systems. Among the topics it addresses are transparency, bias, technical capacity building, data collection and use, privacy, and internal and external oversight and evaluation.

Government Contract Bid Protests Before Agencies. This proposed recommendation addresses the rules governing the resolution of agency-level procurement contract disputes—commonly called bid protests—under the Federal Acquisition Regulation and agency-specific regulations. It identifies changes agencies can make to current agency-level bid protest procedures to promote transparency, simplicity, and predictability.

Protected Materials in Public Rulemaking Dockets. This proposed recommendation offers best practices for handling personal information and confidential commercial information that agencies determine should be withheld from public rulemaking dockets. It addresses how agencies can best inform members of the public that comments are generally subject to public disclosure and encourage them to review comments for protected material before submission. It also offers best practices for redacting, summarizing, and aggregating comments containing protected material before publishing the comments in public rulemaking dockets.

Public Availability of Information About Agency Adjudicators. This proposed recommendation addresses the disclosure of agency policies relating to the selection, appointment, supervision, evaluation, discipline, and removal of adjudicators. It offers agencies best practices for providing plain-language descriptions of such policies and access to relevant legal documents on their websites.

Rules on Rulemakings. This proposed recommendation urges agencies to consider adopting rules governing their rulemaking procedures, making such rules publicly available, and soliciting public input on their content. It identifies the subjects that agencies should consider addressing in their rules on rulemakings without prescribing any particular procedures that agencies should include.

Additional information about the proposals and the agenda, as well as any changes or updates to the same, can be found at the 73rd Plenary Session page on the Conference's website prior to the start of the meeting: https://www.acus.gov/meetings-and-events/plenary-meeting/73rd-plenary-session.

Public Participation: The Conference welcomes the virtual attendance of the public at the meeting, subject to bandwidth limitations. Members of the public who wish to view the meeting are asked to RSVP online at the 73rd Plenary Session web page shown above, no later than two days before the meeting, in order to ensure adequate bandwidth. For anyone who is unable to view the live event, an archived video recording of the meeting will be available on the Conference's website shortly after the conclusion of the event: https://livestream.com/ACUS.

Written Comments: Persons who wish to comment on any of the proposed recommendations or official statement may do so by submitting a written statement either online by clicking “Submit a comment” on the 73rd Plenary Session web page shown above or by mail addressed to: December 2020 Plenary Session Comments, Administrative Conference of the United States, Suite 706 South, 1120 20th Street NW, Washington, DC 20036. Written submissions must be received no later than 10 a.m. (EDT), Monday, December 14, to ensure consideration by the Assembly.

Dated: November 24, 2020.
Shawne McGibbon,
General Counsel.

[FR Doc. 2020-26438 Filed 11-30-20; 8:45 am]

BILLING CODE 6110-01-P